DEPARTMENT OF THE TREASURY

Submission for OMB Review; Comment Request

November 3, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before December 8, 2006 to be assured of consideration.

Internal Revenue Service (IRS)

OMB Number: 1535-0105.

Type of Review: Revision.

Title: App. for recognition as natural guardian of minor not under legal guardianship & disposition of securities.

Form: PD F 2481.

Description: Used by natural guardian of minor to request disposition of securities.

Respondents: Individuals and households.

Estimated Total Burden Hours: 5 hours.

OMB Number: 1535-0104.

Type of Review: Revision.

Title: Application by survivors for payment of bond or check issued under Armed Forces Leave Act of 1946.

Form: PD F 2066.

Description: Used by survivors for payment of bonds issued under Armed Forces Leave Act of 1946.

Respondents: Individuals or households.

Estimated Total Burden Hours: 75 hours.

OMB Number: 1535-0068.

Type of Review: Revision.

Title: Regulations governing book-entry Treasury Bonds, Notes and Bills.

Description: Beginning in 1986, U. S. Treasury bonds, notes and bills were offered exclusively in book-entry form.

Respondents: Individuals or households.

Estimated Total Burden Hours: 1 hours.

OMB Number: 1535-0087.

Type of Review: Revision.

Title: Payment by banks and other financial institutions of U.S. Savings Bonds

Description: Qualified financial institutions are authorized to redeem eligible savings bonds and receive settlement through FRB check collection system.

Respondents: Business or other for-profits.

Estimated Total Burden Hours: 56,227 hours.

OMB Number: 1535-0009.

Type of Review: Revision.

Title: Request to Reissue U.S. Savings Bonds to a Personal Trust.

Form: PD F 1851.

Description: Used to request reissue of savings bonds in the name of a trustee of a personal trust estate.

Respondents: Individuals or households.

Estimated Total Burden Hours: 12,500 hours.

Clearance Officer: Vicki S. Thorpe (304) 480-8150, Bureau of the Public Debt, 200 Third Street, Parkersburg, West Virginia 26106.

OMB Reviewer: Alexander T. Hunt (202) 395-7316, Office of Management and Budget, Room 10235, New Executive Office Building, Washington, DC 20503.

Michael A. Robinson,
Treasury PRA Clearance Officer.

[FR Doc. E6-18848 Filed 11-7-06; 8:45 am]

BILLING CODE 4810-39-P